CONSUMER PRODUCT SAFETY COMMISSION

[CPSC Docket No. 08-C0006]

True Religion Apparel, Inc., Provisional Acceptance of a Settlement Agreement and Order

AGENCY: Consumer Product Safety Commission.

ACTION: Notice.

SUMMARY: It is the policy of the Commission to publish settlements which it provisionally accepts under the Consumer Product Safety Act in the Federal Register in accordance with the terms of 16 CFR 1118.20(e). Published below is a provisionally accepted Settlement Agreement with True Religion Apparel, Inc., containing a civil penalty of $50,000.00.

DATES: Any interested person may ask the Commission not to accept this agreement or otherwise comment on its contents by filing a written request with the Office of the Secretary by May 14, 2008.

ADDRESSES: Persons wishing to comment on this Settlement Agreement should send written comments to the Comment 08-C0006, Office of the Secretary, Consumer Product Safety Commission, 4330 East West Highway, Room 502, Bethesda, Maryland 20814-4408.

FOR FURTHER INFORMATION CONTACT: Seth B. Popkin, Trial Attorney, Legal Division, Office of Compliance and Field Operations, Consumer Product Safety Commission, 4330 East West Highway, Bethesda, Maryland 20814-4408; telephone (301) 504-7612.

SUPPLEMENTARY INFORMATION: The text of the Agreement and Order appears below.

Dated: April 23, 2008,
Todd A. Stevenson,
Secretary.

United States of America Consumer Product Safety Commission

In the Matter of True Religion Apparel, Inc.; CPSC Docket No. 08-C0006

Settlement Agreement

1. In accordance with 16 CFR 1118.20, True Religion Apparel, Inc. (“TRA”), and the staff (“Staff”) of the United States Consumer Product Safety Commission (“Commission”) enter into this Settlement Agreement (“Agreement”). The Agreement and the incorporated attached Order (“Order”) settle the Staff's allegations set forth below.

Parties

2. The Commission is an independent federal regulatory agency established pursuant to, and responsible for the enforcement of, the Consumer Product Safety Act, 15 U.S.C. 2051-2084 (“CPSA”).

3. TRA is a corporation organized and existing under the laws of Delaware, with its principal offices located in Vernon, California. At all times relevant hereto, IRA sold apparel and accessories.

Staff Allegations

4. From March to April 2006, TRA imported and sold to retailers True Religion Brand Jeans fleece hoodies with drawstrings through the hoods (“Drawstring Sweatshirts”).

5. Retailers sold the Drawstring Sweatshirts to consumers.

6. The Drawstring Sweatshirts are “consumer product[s],” and, at all times relevant hereto, TRA was a “manufacturer” of those consumer products, which were “distributed in commerce,” as those terms are defined in CPSA sections 3(a)(1), (4), (11), and (12), 15 U.S.C. 2052(a)(1), (4), (11), and (12).

7. In February 1996, the Staff issued the Guidelines for Drawstrings on Children's Upper Outerwear (“Guidelines”) to help prevent children from strangling or entangling on neck arid waist drawstrings. The Guidelines state that drawstrings can cause, and have caused, injuries and deaths when they catch on items such as playground equipment, bus doors, or cribs. In the Guidelines, the Staff recommends that there be no hood and neck drawstrings in children's upper outerwear sized 2T to 12.

8. In June 1997, ASTM adopted a voluntary standard, ASTM Fl 816-97, that incorporated the Guidelines. The Guidelines state that firms should be aware of the hazards and should be sure garments they sell conform to the voluntary standard.

9. On May 19, 2006, the Commission posted on its Web site a letter from the Commission's Director of the Office of Compliance to manufacturers, importers, and retailers of children's upper outerwear. The letter urges them to make certain that all children's upper outerwear sold in the United States complies with ASTM F 1816-97. The letter states that the Staff considers children's upper outerwear with drawstrings at the hood or neck area to be defective and to present a substantial risk of injury to young children under Federal Hazardous Substances Act (“FHSA”) section 15(c), 15 U.S.C. 1274(c). The letter also notes the CPSA's section 15(b) reporting requirements.

10. TRA reported to the Commission that there had been no incidents or injuries from the Drawstring Sweatshirts.

11. TRA' s distribution in commerce of the Drawstring Sweatshirts did not meet the Guidelines or ASTM F1816-97, failed to comport with the Staff's May 2006 defect notice, and posed a strangulation hazard to children.

12. On September 14, 2006, the Commission, in cooperation with TRA, announced a recall of 150 of the Drawstring Sweatshirts, informing consumers that they should immediately stop using the Drawstring Sweatshirts.

13. TRA had presumed and actual knowledge that the Drawstring Sweatshirts distributed in commerce posed a strangulation hazard and presented a substantial risk of injury to children under FHSA section 15(c)(1), 15 U.S.C. 1274(c)(1). TRA had obtained information that reasonably supported the conclusion that the Drawstring Sweatshirts contained a defect that could create a substantial product hazard or that they created an unreasonable risk of serious injury or death. CPSA sections 15(b)(2) and (3), 15 U.S.C. 2064(b)(2) and (3), required TRA to immediately inform the Commission of the defect and risk.

14. TRA knowingly failed to immediately inform the Commission about the Drawstring Sweatshirts, including the 150 referenced above and additional ones, as required by CPSA sections 15(b)(2) and (3), 15 U.S.C. 2064(b)(2) and (3), and as the term “knowingly” is defined in CPSA section 20(d), 15 U.S.C. 2069(d). This failure violated CPSA section 19(a)(4), 15 U.S.C. 2068(a)(4). Pursuant to CPSA section 20, 15 U.S.C. 2069, this failure subjected TRA to civil penalties.

TRA Response

15. TRA denies the Staff's allegations above that TRA knowingly violated the CPSA, denies that it unknowingly violated the CPSA, denies any wrongdoing, and states that no lawsuit has been filed against TRA relating to the subject matter of the Agreement.

Agreement of the Parties

16. Under the CPSA, the Commission has jurisdiction over this matter and over TRA.

17. The parties enter into the Agreement for settlement purposes only. The Agreement does not constitute an admission by TRA, or a determination by the Commission, that TRA has knowingly or unknowingly violated the CPSA.

18. In settlement of the Staffs allegations, TRA shall pay a civil penalty in the amount of fifty thousand dollars ($50,000.00) within twenty (20) calendar days of service of the Commission's final Order accepting the Agreement. Each payment shall be by check payable to the order of the United States Treasury.

19. Upon provisional acceptance of the Agreement, the Agreement shall be placed on the public record and published in the Federal Register in accordance with the procedures set forth in 16 CFR 1118.20(e). In accordance with 16 CFR 1118.20(f), if the Commission does not receive any written request not to accept the Agreement within fifteen (15) calendar days, the Agreement shall be deemed finally accepted on the sixteenth (16th) calendar day after the date it is published in the Federal Register.

20. Upon the Commission's final acceptance of the Agreement and issuance of the final Order, TRA knowingly, voluntarily, and completely waives any rights it may have in this matter to the following: (1) An administrative or judicial hearing; (2) judicial review or other challenge or contest of the validity of the Order or of the Commission's actions; (3) a determination by the Commission of whether TRA failed to comply with the CPSA and its underlying regulations; (4) a statement of findings of fact and conclusions of law; and (5) any claims under the Equal Access to Justice Act.

21. The Commission may publicize the terms of the Agreement and the Order.

22. The Agreement and the Order shall apply to, and be binding upon, TRA and each of its successors and assigns.

23. The Commission issues the Order under the provisions of the CPSA, and violation of the Order may subject TRA to appropriate legal action.

24. The Agreement may be used in interpreting the Order. Understandings, agreements, representations, or interpretations apart from those contained in the Agreement and the Order may not be used to vary or contradict their terms. The Agreement shall not be waived, amended, modified, or otherwise altered without written agreement thereto executed by the party against whom such waiver, amendment, modification, or alteration is sought to be enforced.

25. If any provision of the Agreement and the Order is held to be illegal, invalid, or unenforceable under present or future laws effective during the terms of the Agreement and the Order, such provision shall be fully severable. The balance of the Agreement and the Order shall remain in full force and effect, unless the Commission and TRA agree that severing the provision materially affects the purpose of the Agreement and the Order.

26. Pursuant to section 6(d) of the Interim Delegation of Authority ordered by the Commission on February 1, 2008, the Commission delegated to the Assistant Executive Director for Compliance and Field Operations the authority to act, with the concurrence of the General Counsel, for the Commission under 16 CFR 1118.20 with respect to Staff allegations that any person or firm violated 15 U.S.C. 2068, where the total amount of the settlement involves no more than $100,000.

True Religion Apparel, Inc.,

Dated: 4/2/08,

By: Michael Buckley,

President,

True Religion Apparel, Inc.

2263 E. Vernon Avenue,

Vernon, CA 90058.

Dated: 4/3/08,

By: William E. Potts, Jr., Esq.,

Akin, Gump, Strauss, Hauer & Feld,

1333 New Hampshire Ave., NW.,

Washington, DC 20036,

Counsel to True Religion Apparel, Inc.

U.S. Consumer Product Safety Commission Staff,

J. Gibson Mullan,

Assistant Executive Director,

Office of Compliance and Field Operations,

Ronald G. Yelenik,

Acting Director Legal Division,

Office of Compliance and Field Operations.

Dated: 4-16-08,

By: Seth B. Popkin,

Trial Attorney,

Legal Division,

Office of Compliance and Field Operations.

United States of America Consumer Product Safety Commission

In the Matter of True Religion Apparel, Inc.; CPSC Docket No. 08-C0006

Order

Upon consideration of the Settlement Agreement entered into between True Religion Apparel, Inc. (“TRA”) and the U.S. Consumer Product Safety Commission (“Commission”) staff, and the Commission having jurisdiction over the subject matter and over TRA, and pursuant to the authority delegated in section 6(d) of the Interim Delegation of Authority ordered by the Commission on February 1, 2008, and it appearing that the Settlement Agreement and the Order are in the public interest, it is Ordered, that the Settlement Agreement be, and hereby is, accepted; and it is Further Ordered, that TRA shall pay a civil penalty in the amount of fifty thousand dollars ($50,000.00) within twenty (20) calendar days of service of the Commission's final Order accepting the Agreement. The payment shall be made by check payable to the order of the United States Treasury. Upon the failure of TRA to make the foregoing payment when due, interest on the unpaid amount shall accrue and be paid by TRA at the federal legal rate of interest set forth at 28 U.S.C. 1961(a) and (b).

A Provisionally accepted and provisional Order issued on the 22nd day of April 2008.

By Order of the Commission:

Todd A. Stevenson,

Secretary,

U.S. Consumer Product Safety Commission.

[FR Doc. E8-9268 Filed 4-28-08; 8:45 am]

BILLING CODE 6355-01-M